DEPARTMENT OF JUSTICE

Notice of Lodging of Settlement Agreement Under the Resource Conservation and Recovery Act (RCRA) and the Comprehensive Environmental Response, Compensation and Liability Act (CERCLA)

Notice is hereby given that on May 30, 2003, a proposed Consent Decree in United States and State of Illinois v. National Steel Corporation, Case No. 1:03cv3338 was lodged with the United States District Court for the Northern District of Illinois.

In this action the United States sought civil penalties and injunctive relief arising from National Steel Corporation's improper characterization and disposal of hazardous wastes in an on-site landfill at its Granite City Division facility in Granite City, Illinois. The Consent Decree provides that National Steel Corporation will close its on-site landfill and increase the monitoring and post-closure care of its landfill. In addition, the Consent Decree requires payment of a civil penalty of $500,000. Payment of the penalty will be subject to procedures in National Steel Corporation's Chapter 11 Bankruptcy proceeding, In Re: National Steel Corporation, et al., No. 02-08699 (Bankr. N.D. Ill., filed March 6, 2002).

National Steel Corporation is currently negotiating the final terms for a court-approved transfer of its assets to the United States Steel Corporation. Therefore the Consent Decree provides a procedure for United States Steel Corporation to assume the obligations of National Steel Corporation once the Bankruptcy Court has approved the final transfer of assets.

The Department of Justice will receive for a period of thirty (30) days from the date of this publication comments relating to the Consent Decree. Comments should be addressed to the Assistant Attorney General, Environment and Natural Resources Division, P.O. Box 7611, U.S. Department of Justice, Washington, DC 20044-7611, and should refer to United States and State of Illinois v. National Steel Corporation, D.J. Ref. 90-11-3-07887. Commenters may request an opportunity for a public meeting in the affected area, in accordance with section 7003(d) of RCRA, 42 U.S.C. 6973(d).

The Consent Decree may be examined at the Office of the United States Attorney, Northern District of Illinois, 219 South Dearborn Street, Suite 300, Chicago, IL 60604 and at U.S. EPA Region 5, 77 West Jackson Boulevard, Chicago, IL 60604. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.00 (25 cents per page reproduction cost) payable to the U.S. Treasury.

William D. Brighton,
Assistant Chief, Environmental Enforcement Section, Environment and Natural Resources Division.

[FR Doc. 03-14825 Filed 6-11-03; 8:45 am]

BILLING CODE 4410-15-M